ENVIRONMENTAL PROTECTION AGENCY

[FRL-7449-2]

FY2003-2004 Great Lakes National Program Office Funding Guidance—Request for Proposals

AGENCY: Environmental Protection Agency.

ACTION: Notice of funding availability.

SUMMARY: The U.S. Environmental Protection Agency's Great Lakes National Program Office (GLNPO) is requesting Proposals for up to $4,827,000 for projects furthering protection and clean up of the Great Lakes ecosystem.

DATES: The initial deadline for all Proposals is 8 a.m. Central time, March 31, 2003, with a separate rolling deadline for specified conferences and publications.

ADDRESSES: The RFP is available on the Internet at http://www.epa.gov/glnpo/fund/2003guid/. It is also available from Lawrence Brail (312-886-7474/brail.lawrence@epa.gov).

FOR FURTHER INFORMATION CONTACT: Mike Russ, EPA-GLNPO, G-17J, 77 West Jackson Blvd., Chicago, IL 60604 (312-886-4013/russ.michael@epa.gov).

SUPPLEMENTARY INFORMATION: Proposals are requested through four requests:

RFP 1: General Request. $2,720,000 for Great Lakes projects addressing Contaminated Sediments, Pollution Prevention and Reduction, Habitat (Ecological) Protection and Restoration, Invasive Species, and Strategic or Emerging Issues.

RFP 2: Specific LaMP/RAP Requests—$1,752,000 for specific Great Lakes projects furthering the Lakewide Management Plans and Remedial Action Plans, such as monitoring, outreach, training, assessment, and coordination.

RFP 3: Conferences and Publications. $275,000 for Great Lakes conferences and publications, and for specific conferences on the State of Lake Michigan and Basin-wide RAP Priorities.

RFP 4: Grants Servicing Intermediary. $60,000 to $100,000 for an “intermediary” organization to make and administer grant sub-awards for habitat and other areas.

Assistance (through grants, cooperative agreements, and interagency agreements) is available pursuant to Clean Water Act section 104(b)(3) for activities in the Great Lakes Basin and in support of the Great Lakes Water Quality Agreement. State pollution control agencies, interstate agencies, other public or nonprofit private agencies, institutions, and organizations are eligible to apply.

Dated: January 30, 2003.
Gary V. Gulezian,
Director, Great Lakes National Program Office.

[FR Doc. 03-3064 Filed 2-6-03; 8:45 am]

BILLING CODE 6560-50-P